DEPARTMENT OF AGRICULTURE

Submission for OMB Review; Comment Request

August 4, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Agricultural Statistics Service

Title: Agricultural Resource Management, Chemical Use, and Post-harvest Chemical Use Surveys.

OMB Control Number: 0535-0218.

Summary of Collection: The primary objectives of the National Agricultural Statistics Service (NASS) is to provide the public with timely and reliable agricultural production and economic statistics, as well as environmental and specialty agricultural related statistics. Three surveys—the Agricultural Resource Management Study, the Fruit and Vegetable Chemical Use Surveys, and the Post-harvest Chemical Use Survey—are critical to NASS' ability to fulfill these objectives and to build the Congressionally mandated database on agricultural chemical use and related farm practices. NASS uses a variety of survey instruments to collect the information in conjunction with these studies.

Need and Use of the Information: The Agricultural Resource Management Study provides a robust data base of information to address varied needs of policy makers. There are many uses for the information from this study including an evaluation of the safety of the Nation's food supply; input to the farm sector portion of the gross domestic product; and to provide a barometer on the financial condition of farm businesses. Data from the Fruit and Vegetable Chemical Use Surveys is used to assess the environmental and economic implications of various program and policies and the impact on agricultural producers and consumers. The results of the Post-harvest Chemical Use Survey are used by the Environmental Protection Agency (EPA) to develop Food Quality Protection Act risk assessments. Other organizations use this data to make sound regulatory decisions.

Description of Respondents: Farms.

Number of Respondents: 76,433.

Frequency of Responses: Reporting: Annually.

Total Burden Hours: 58,345.

Title: Census of Aquaculture.

OMB Control Number: 0535-0237.

Summary of Collection: The primary objective of the 2005 Census of Aquaculture is to obtain a comprehensive and detailed picture of the aquaculture sector of the economy. Authority to administer the census of aquaculture is covered by Public Law 105-113, the Census of Agriculture Act of 1997, and U.S. Code Title 7. The census of aquaculture will be the only source of data comparable and consistent at the national and State levels. It will cover all operations, commercial or noncommercial, from which $1,000 or more of aquaculture products were sold or normally would have been sold during the census year. The census of aquaculture is one of a series of special study programs that comprise the follow-ons to the census of agriculture and is designed to provide more detailed statistics on the aquaculture industry.

Need and Use of the Information: The National Agricultural Statistics Service will collect data to provide a comprehensive inventory on the number of operations, water acreage, method of production, total production, sales outlets, sales by aquaculture species, products distributed for restoration or conservation by species, and farm employment. These data will provide information on the aquaculture industry necessary for farmers, government and various groups concerned with the aquaculture industry to evaluate policy and programs, make marketing decisions and determine the economic impact on the economy.

Description of Respondents: Farms.

Number of Respondents: 10,000.

Frequency of Responses: Reporting: One-time (Every 5-years).

Total Burden Hours: 4,222.

Charlene Parker,
Departmental Information Collection Clearance Officer.

[FR Doc. 05-15767 Filed 8-9-05; 8:45 am]

BILLING CODE 3410-20-P